DEPARTMENT OF ENERGY

Federal Energy Regulatory Commission

Combined Notice of Filings #1

Take notice that the Commission received the following electric rate filings:

Docket Numbers: ER10-1257-006; ER10-1258-006; ER11-3117-002.

Applicants: Wabash Valley Power Association, Inc., Wabash Valley Energy Marketing, Inc., Lively Grove Energy Partners, LLC.

Description: Supplement to July 18, 2016 Notice of Change of Status of Wabash Valley Power Association, et al.

Filed Date: 8/29/16.

Accession Number: 20160829-5321.

Comments Due: 5 p.m. ET 9/19/16.

Docket Numbers: ER10-1777-009; ER15-718-004.

Applicants: Sundevil Power Holdings, LLC, West Valley Power, LLC.

Description: Notification of Change in Status of the Wayzata Entities, et al.

Filed Date: 8/29/16.

Accession Number: 20160829-5320.

Comments Due: 5 p.m. ET 9/19/16.

Docket Numbers: ER15-1499-003.

Applicants: Southwest Power Pool, Inc.

Description: Compliance filing: City of Independence Stated Rate Compliance Filing to be effective 6/1/2015.

Filed Date: 8/29/16.

Accession Number: 20160829-5275.

Comments Due: 5 p.m. ET 9/19/16.

Docket Numbers: ER16-1830-001.

Applicants: AEP Texas Central Company.

Description: Tariff Amendment: TCC-Rio Grande EC TSA Deficiency Response to be effective 5/6/2016.

Filed Date: 8/29/16.

Accession Number: 20160829-5309.

Comments Due: 5 p.m. ET 9/19/16.

Docket Numbers: ER16-1831-001.

Applicants: AEP Texas North Company.

Description: Tariff Amendment: TNC-Rio Grande EC TSA Concurrence Deficiency Response to be effective5/6/2016.

Filed Date: 8/29/16.

Accession Number: 20160829-5305.

Comments Due: 5 p.m. ET 9/19/16.

Docket Numbers: ER16-2185-001.

Applicants: Westar Energy, Inc.

Description: Tariff Amendment: Amendment, Cost-Based Tariff Filing to be effective 3/1/2014.

Filed Date: 8/29/16.

Accession Number: 20160829-5312.

Comments Due: 5 p.m. ET 9/19/16.

Docket Numbers: ER16-2372-002.

Applicants: ITC Midwest LLC.

Description: Tariff Amendment: Second Errata to Master Joint Use Agreement to be effective 10/4/2016.

Filed Date: 8/29/16.

Accession Number: 20160829-5250.

Comments Due: 5 p.m. ET 9/19/16.

Docket Numbers: ER16-2506-000.

Applicants: Oliver Wind III, LLC.

Description: Baseline eTariff Filing: Oliver Wind III, LLC Application for Market-Based Rates to be effective11/1/2016.

Filed Date: 8/29/16.

Accession Number: 20160829-5311.

Comments Due: 5 p.m. ET 9/19/16.

Docket Numbers: ER16-2507-000.

Applicants: NorthWestern Corporation.

Description: Section 205(d) Rate Filing: SA 243 10th Rev—NITSA with CHS Inc. to be effective 8/30/2016.

Filed Date: 8/29/16.

Accession Number: 20160829-5313.

Comments Due: 5 p.m. ET 9/19/16.

Docket Numbers: ER16-2508-000.

Applicants: H.Q. Energy Services (U.S.) Inc.

Description: Section 205(d) Rate Filing: HQUS MBR Tariff Update Filing to be effective 8/31/2016.

Filed Date: 8/30/16.

Accession Number: 20160830-5143.

Comments Due: 5 p.m. ET 9/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2016.
Nathaniel J. Davis, Sr.,
Deputy Secretary.

[FR Doc. 2016-21529 Filed 9-7-16; 8:45 am]

BILLING CODE 6717-01-P